DEPARTMENT OF THE INTERIOR

Office of Surface Mining Reclamation and Enforcement

Information Quality Guidelines Pursuant to Section 515 of the Treasury and General Government Appropriations Act for Fiscal Year 2001

AGENCY: Office of Surface Mining Reclamation and Enforcement, Interior.

ACTION: Notice of Availability of Revised Peer Review Guidelines.

SUMMARY: This is a Notice of Availability of the amended Information Quality guidelines of the Office of Surface Mining Reclamation and Enforcement (OSM). OSM's amended guidelines implement the Information Quality guidelines published by the Office of Management and Budget (OMB) in the Federal Register. The OMB guidelines directed Federal agencies to issue and implement guidelines to ensure and maximize the quality, objectivity, utility, and integrity of Government information disseminated to the public. Accordingly, OSM is amending its Information Quality Guidelines in order to provide current information about the title of the Information Quality contact. We are making no other substantive changes. We are making minor, non-substantive editorial and technical corrections. The corrected guidelines are available on the OSM Internet Web site at: http://www.osmre.gov/guidance/osm_info_quality.shtm.

FOR FURTHER INFORMATION CONTACT: Office of the Chief Information Officer, Office of Surface Mining Reclamation and Enforcement, 1951 Constitution Ave., NW., Washington, DC 20240. Telephone (202) 208-2961 or by e-mail to infoquality@osmre.gov.

SUPPLEMENTARY INFORMATION:

The OSM guidelines, as amended, implement guidelines published by the Office of Management and Budget (OMB) in the Federal Register on September 28, 2001 (66 FR 49718) and February 22, 2002 (67 FR 8451). The OMB guidelines directed Federal agencies to issue and implement guidelines to ensure and maximize the quality, objectivity, utility, and integrity of Government information disseminated to the public. Our Information Quality Guidelines were published in the Federal Register on November 13, 2002 (67 FR 68882). The amendments addressed in this notice reflect OSM organizational changes, by making appropriate changes in OSM contact information. Our amendments make no other substantive changes in our guidelines; however, they make other minor technical and editing corrections. As noted above, the corrected guidelines are available on the OSM Internet Web site at: http://www.osmre.gov/guidance/osm_info_quality.shtm.

Dated: July 28, 2009.
Glenda H. Owens
Acting Director.

[FR Doc. E9-20676 Filed 8-26-09; 8:45 am]

BILLING CODE 4310-05-P